FEDERAL COMMUNICATIONS COMMISSION

[CG Docket No. 03-123; DA 06-1244]

Notice of Certification of GoAmerica, Inc. as a Provider of Internet Protocol Relay (IP Relay) and Video Relay Service (VRS) Eligible for Compensation From the Interstate Telecommunications Relay Service (TRS) Fund

AGENCY: Federal Communications Commission.

ACTION: Notice.

SUMMARY: In this document, the Commission grants GoAmerica, Inc. (GoAmerica) certification as a provider of IP Relay and VRS services eligible for compensation from the Interstate TRS Fund. The Commission concludes that GoAmerica has demonstrated that its provision of IP Relay and VRS will meet or exceed all operational, technical, and functional TRS standards set forth in the Commission's rules; that it makes available adequate procedures and remedies for ensuring compliance with applicable Commission rules; and that to the extent GoAmerica's service differs from the mandatory minimum standards, the service does not violate the rules.

DATES: Effective June 9, 2006.

ADDRESSES: Federal Communications Commission, 445 12th Street, SW., Washington DC 20554.

FOR FURTHER INFORMATION CONTACT: Gregory Hlibok, Consumer & Governmental Affairs Bureau, Disability Rights Office at (866) 410-5787 ext. 16757 (Voice), (202) 418-0431 (TTY), or e-mail at Gregory.Hlibok@fcc.gov.

SUPPLEMENTARY INFORMATION: This is a summary of the Commission's document DA 06-1244, released June 9, 2006, addressing an application for certification filed by GoAmerica, Inc. on March 16, 2006. See Notice of Certification of GoAmerica as a Provider of Internet Protocol (IP Relay) and Video Relay Service (VRS) Eligible for Compensation from the Interstate Telecommunications Relay Service (TRS) Fund, in CG Docket No. 03-123. The full text of document DA 06-1244 and copies of any subsequently filed documents in this matter will be available for public inspection and copying during regular business hours at the FCC Reference Information Center, Portals II, 445 12th Street, SW., Room CY-A257, Washington, DC 20554. Document DA 06-1244 and copies of subsequently filed documents in this matter may also be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer & Governmental Affairs Bureau at (202) 418-0530 (voice), (202) 418-0432 (TTY). Document DA 06-1244 can also be downloaded in Word or Portable Document Format (PDF) at: http://www.fcc.gov/cgb/dro.

Synopsis

On March 16, 2006, GoAmerica, Inc. (GoAmerica) filed an application for certification, (GoAmerica, Inc., IP Relay and VRS Certification Application of GoAmerica, Inc., CG Docket No. 03-123 (March 16, 2006) (GoAmerica Application)) as a provider of IP Relay and VRS services eligible for compensation from the Interstate TRS Fund (Fund) pursuant to the recently adopted provider certification rules. See Telecommunications Relay Services for Individuals with Hearing and Speech Disabilities, Report and Order and Order on Reconsideration, CG Docket No. 03-123, FCC 05-203 (December 12, 2005); published at 70 FR 76208, December 23, 2005 (2005 IP Relay and VRS Provider Order); 47 CFR 64.605(a)(2) of the Commission's rules. Prior to the 2005 IP Relay and VRS Provider Order, an entity desiring to offer TRS and receive compensation from the Fund had to meet one of the three eligibility standards set forth in 47 CFR 64.604(c)(5)(iii)(F) of the Commission's rules. On April 21, 2006, GoAmerica submitted a supplement, (GoAmerica, Inc., IP Relay and VRS Certification Supplement to Application of GoAmerica, Inc., CG Docket No. 03-123 (April 21, 2006) (GoAmerica Supplement)) to its original application for certification. GoAmerica's application is granted, subject to the conditions noted below.

On December 12, 2005, the Commission released an order adopting new rules permitting carriers desiring to offer IP Relay and VRS services and receive payment from the Fund to seek certification as a provider eligible for compensation from the Fund. 2005 IP Relay and VRS Provider Order, supra. The rules require entities seeking such certification to submit documentation to the Commission setting forth, in narrative form:

(i) A description of the forms of TRS to be provided (i.e., VRS and/or IP Relay); (ii) a description of how the provider will meet all non-waived mandatory minimum standards applicable to each form of TRS offered; (iii) a description of the provider's procedures for ensuring compliance with all applicable TRS rules; (iv) a description of the provider's complaint procedures; (v) a narrative describing any areas in which the provider's service will differ from the applicable mandatory minimum standards; (vi) a narrative establishing that services that differ from the mandatory minimum standards do not violate applicable mandatory minimum standards; (vii) demonstration of status as a common carrier; and (viii) a statement that the provider will file annual compliance reports demonstrating continued compliance with these rules. 47 CFR 64.605(a)(2) of the Commission's rules.

The rules further provide that after review of the submitted documentation, the Commission shall certify that the provider of IP Relay and VRS services is eligible for compensation from the Fund if the Commission determines that the certification documentation:

(i) Establishes that the provision of IP Relay and VRS * * * will meet or exceed all non-waived operational, technical, and functional minimum standards contained in § 64.604 of the Commission's rules;

(ii) establishes that the IP Relay and VRS * * * provider makes available adequate procedures and remedies for ensuring compliance with the requirements of this section and the mandatory minimum standards contained in § 64.604 of the Commission's rules, including that it makes available for TRS users informational materials on complaint procedures sufficient for users to know the proper procedures for filing complaints; and

(iii) where the TRS service differs from the mandatory minimum standards contained in § 64.604 of the Commission's rules, the IP Relay and VRS * * * provider establishes that its service does not violate applicable mandatory minimum standards. 47 CFR 64.605(b)(2) of the Commission's rules.

The Bureau has reviewed the GoAmerica Application and GoAmerica Supplement pursuant to these rules. The Bureau concludes that GoAmerica has demonstrated that its provision of IP Relay and VRS services will meet or exceed all operational, technical, and functional TRS standards set forth in 47 CFR 64.604 of the Commission's rules; that it makes available adequate procedures and remedies for ensuring compliance with applicable Commission rules; and that to the extent GoAmerica's service differs from the mandatory minimum standards, the service does not violate the rules. See, e.g., GoAmerica Supplement at 3 (noting that GoAmerica will offer speed dialing, phone book directory and relay calls customization for IP Relay).

The Bureau notes the Commission has adopted a declaratory ruling requiring the interoperability of VRS equipment and services. See Telecommunications Relay Services for Individuals with Hearing and Speech Disabilities, CG Docket No. 03-123, Declaratory Ruling and Further Notice of Proposed Rulemaking, FCC 06-57 (May 9, 2006), published at 71 FR 30818, May 31, 2006 and 71 FR 30848, May 31, 2006 (addressing California Coalition of Agencies Serving the Deaf and Hard of Hearing (CCASDHH), Petition for Declaratory Ruling on Interoperability, CC Docket No. 98-67, CG Docket No. 03-123, DA 05-509 (filed February 15, 2005)), published at 70 FR 12884, March 16, 2005. The Bureau conditions this grant of certification upon compliance with that order. See also 47 CFR 64.605(e)(2) of the Commission's rules (Commission may require certified providers to submit documentation demonstrating compliance with the mandatory minimum standards). Further, GoAmerica must file an annual report with the Commission evidencing that they are in compliance with § 64.604 of the Commission's rules. See 47 CFR 64.605(g) of the Commission's rules. The first such report shall be due one year after June 9, 2006, and subsequent reports shall be due each year thereafter.

This certification shall remain in effect for a period of five years from the release date of June 9, 2006. See 47 CFR 64.605(c)(2) of the Commission's rules. Within ninety days prior to the expiration of this certification, GoAmerica may apply for renewal of its IP Relay and VRS services certification by filing documentation in accordance with the Commission's rules. See 47 CFR 64.605(c)(2) of the Commission's rules.

Federal Communications Commission.
Monica S. Desai,
Chief, Consumer & Governmental Affairs Bureau.

[FR Doc. E6-9948 Filed 6-27-06; 8:45 am]

BILLING CODE 6712-01-P